NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 80 FR 28713, and 56 comments were received. NSF is forwarding the proposed renewal submission to the Office of Management and Budget (OMB) for clearance simultaneously with the publication of this second notice. The full submission may be found at: http://www.reginfo.gov/public/do/PRAMain.

The National Science Foundation (NSF) is announcing plans to request renewed clearance of this collection. The primary purpose of this revision is to implement changes described in the Supplementary Information section of this notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street NW., Room 10235, Washington, DC 20503, and to Suzanne H. Plimpton, Reports Clearance Officer, National Science Foundation, 4201 Wilson Boulevard, Suite 1265, Arlington, Virginia 22230 or send email to splimpto@nsf.gov. Individuals who use a telecommunications device for the deaf (TDD) may call the Federal Information Relay Service (FIRS) at 1-800-877-8339, which is accessible 24 hours a day, 7 days a week, 365 days a year (including federal holidays).

Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION:

Summary of Comments on the National Science Foundation Proposal and Award Policies and Procedures Guide and NSF's Responses

The draft NSF PAPPG was made available for review by the public on the NSF Web site at http://www.nsf.gov/bfa/dias/policy/. In response to the Federal Register notice published May 19, 2015, at 80 FR 28713, NSF received 56 comments from 12 different institutions/individuals; 33 comments were in response to the Grant Proposal Guide, and 23 were in response to the Award and Administration Guide. Following is the table showing the summaries of the comments received on the PAPPG sections, with NSF's response.

No. | Comment source | Topic & PAPPG section | Comment | NSF Response
1 | University of Illinois at Urbana-Champaign | Separate Sections for Intellectual Merit & Broader Impacts Chapter II.C.2d(i) and Exhibit II-1 | Clarify the discrepancy between the wording of the requirements for the project description's contents (II.C.2d(i)), and the Proposal Preparation Checklist (Exhibit II-1). The policy section does not address having “Intellectual Merit” as a required separate section within the narrative. Whereas the Checklist says “Project Description contains, as a separate section within the narrative, sections labeled “Intellectual Merit” and “Broader Impacts.” | The checklist has been corrected to clarify NSF requirements.
2 | University of Illinois at Urbana-Champaign | Collaborators & Other Affiliations Chapter II.C.1e | Remove ambiguity from Chapter II.C.1e. Collaborators & Other Affiliations Information (third bullet): “A list of all persons (including their organizational affiliations, if known), with whom the individual has had an association as thesis advisor, or with whom the individual has had an association within the last five years as a postgraduate-scholar sponsor.” [emphasis added]. Does the requirement, “within the last five years”, apply only to postdocs, or to both postdocs and graduate student advisees? The ambiguity could be avoided by separating the single item into two separate ones—one for former graduate students and one for postdocs. | NSF has revised this language to address the concern identified.
3 | University of Illinois at Urbana-Champaign | Miscellaneous Comment | Increase the font size of NSF solicitations, preferably matching the NSF requirements for proposal documents. Currently, NSF solicitations are published in very small font that is difficult to read. | A user can adjust these settings manually on their computer. As such it is not necessary for the Foundation to take further action.
4 | CHORUS | Public Access Plan Miscellaneous Comment | In moving ahead, we urge NSF to continue to maintain and develop public-private partnerships. Such efforts will help the NSF contain costs, reduce the burden on researchers and their institutions, and ensure sustainable, broad public access to scholarly communication. | NSF thanks you for your comment.
5 | CHORUS | Public Access Plan Miscellaneous Comment | We are pleased to note that the Plan voices a strong commitment to ongoing consultation and collaboration with the diverse array of stakeholders in the scholarly communications community. That commitment has been evident in CHORUS' discussions with NSF over the past two years and we look forward to continuing to work with the NSF and other stakeholders to achieve our shared goal. | NSF thanks you for your comment.
6 | CHORUS | Public Access Plan Miscellaneous Comment | CHORUS is involved with a number of initiatives (the CrossRef-DataCite Pilot, SHARE, and the RDA-WDS Publishing Data Services Working Group, and potentially, the RMap Project, Dataverse, Figshare, and Dryad) to investigate tools and services that support researchers with their data management plans and help funding bodies with compliance tracking. We believe the need to develop and evolve data standards is critical. We therefore strongly encourage NSF to actively partner with some or all of these organizations, which are already overseeing the development of standards that deploy existing tools (e.g., DOIs, CrossRef's FundRef, and ORCID). | NSF thanks you for your comment.
7 | CHORUS | Public Access Plan Miscellaneous Comment | CHORUS is very interested in working with NSF and other funding agencies, publishers, data archive managers, and other stakeholders on developing mechanisms to connect articles and related datasets, for example, via developing publishers' systems to enable authors to submit their data to an appropriate archive and simultaneously link this to an article. | NSF thanks you for your comment.
8 | COGR | Preliminary Proposals Chapter I.D.2 | The PI then forwards the proposal to the appropriate office at his/her organization, and the Authorized Organizational Representative (AOR) signs and submits the preliminary proposal via use of NSF's electronic systems. The existing requirements do not limit personnel to that of only the AOR in providing proposal certifications. Given the volume of proposals reviewed, we request that the current language remain. | NSF has always required certifications to be submitted by the AOR. As such, there is no change to this policy.
9 | COGR | Submission Instructions Chapter I.G.2 | In submission of a proposal for funding by the AOR, the AOR is required to provide certain proposal certifications. This certification process will concur concurrently with the submission of the proposal. The revision of this section removes the ability to designate separate authorities to SRO's in FastLane for personnel other than the AOR to submit certain certifications. Additionally, it removes the current requirement to provide the required AOR certifications within five (5) working days following e-submission of the proposal. We request that the current language remain as is which allows more flexibility to meet required deadlines and reduces the burden of the AOR and the ability to make mistakes during peak deadline times. | For consistency with government-wide requirements already established in Grants.gov, NSF is making a policy change to require certifications to be submitted at the time of proposal submission. This also is consistent with the policies established by the other 25 grant making agencies of the Federal government.
10 | COGR | Proposal Certifications Chapter II.C.1d | The AOR must use the “Authorized Organizational Representative function” in FastLane to sign and submit the proposal, including the proposal certifications. It is the proposing organization's responsibility to assure that only properly authorized individuals sign in this capacity. We request that the current language remain which makes clear that SRO's can be authorized to electronically submit the proposal after review by the AOR. | For consistency with government-wide requirements already established in Grants.gov, NSF is making a policy change to require certifications to be submitted at the time of proposal submission. This also is consistent with the policies established by the other 25 grant making agencies of the Federal government.
11 | COGR | Biographical Sketches Chapter II.C.2f(ii) | A biographical sketch (limited to two pages) is required for each individual identified as senior personnel. “Other Personnel” biographical information can be uploaded along with the Biosketches for Senior Personnel in the Biosketches section of the proposal. It is not clear that whether biosketches for non-senior personnel should be uploaded with the biosketches of the PI or with other senior/key personnel? Do the instructions to upload or insert individual biosketches only apply to senior/key personnel? | Language has been revised to clarify that biosketches for all personnel must be uploaded in a single file as an other supplementary document.
12 | COGR | Current and Pending Support Chapter II.C.2h | . . . All project support from whatever source (e.g., Federal, State, local or foreign government agencies, public or private foundations, industrial or other commercial organization, or internal institutional resources) must be listed. The proposed project and all other projects or activities requiring a portion of time of the PI and other senior personnel must be included, even if they receive no salary support from the project(s). The total award amount for the entire award period covered (including indirect costs) must be shown as well as the number of person-months per year to be devoted to the project, regardless of source of support. While we recognize that current and pending support documentation has long been a requirement of NSF and other federal agencies, requiring this documentation at proposal submission adds additional administrative burden when the likelihood of being funded is unknown. We therefore ask that only those with favorable scientific review outcomes being considered for NSF funding be asked to submit current and pending support information. Providing this information post submission or at the time that the proposal has been selected for funding also means that the information will be more current, benefitting both NSF and the institution. In addition, we recommend that the request to have internal institutional resources identified, be limited to internal funds allocated toward specific projects. This will eliminate the unnecessary burden of reporting routine new faculty start-up packages that may include general equipment and space and/or voluntary time and effort dedicated toward another project or endeavor. We are further seeking confirmation that an institution can include zero (0) person months in appropriate situations who may commit to contribute to the scientific development or execution of the project, but are not committing any specific measurable effort to the project. | Language incorporated.
13 | COGR | Dual Use Research of Concern Chapter II.D.14b | Proposing organizations are responsible for identifying NSF-funded life sciences proposals that could potentially be considered dual use research of concern as defined in the US Government Policy for Institutional Oversight of Life Sciences Dual Use Research of Concern. If the proposing organization identifies the proposal as dual use research of concern, the associated box must be checked on the Cover Sheet. (See also AAG Chapter VI.B.5 for additional information.) We are requesting clarity on the use of identifying NSF-funded life sciences that could “potentially” be considered dual use research of concern as described above vs the “identification” of DURC as implied by the second paragraph. We request that the DURC determination be consistent with the USG Policy that requires institutions to provide notification to the USG funding agency of any research that involves one or more of the 15 listed agents and one or more of the seven listed experimental effects as defined in Section 6.2 of the USG Policy within thirty (30) calendar days of the institutional review of the research for DURC potential. | NSF has removed the DURC checkbox from the Cover Sheet. Certification language regarding DURC has been added to the listing of AOR certifications for compliance with government-wide requirements.
14 | COGR | Life Sciences Dual Use Research of Concern AAG, Chapter VI.B.5b | . . . NSF awards are not expected to result in research that falls within the scope of this Policy. If, however, in conducting the activities supported under an award, the PI is concerned that any of the research results could potentially be considered Dual Use Research of Concern under this Policy, the PI or the grantee organization should promptly notify the cognizant NSF Program Officer. See comments to Chapter II. D.14(b) above. | Language has been revised for compliance with government-wide requirements.
15 | COGR | Reporting Requirements AAG, Chapter II.D | Our membership has noted the difference in reporting dates between programmatic reporting (90 days) and financial reporting (120) days. We appreciate the change NSF has made in the AAG to revise the financial reporting from 90 days to 120 days but further request your consideration to reflect the same dates for programmatic reporting. This would allow institutions to reconcile charges for publications of its subrecipients while giving more time to incorporate the programmatic results into the prime recipients final programmatic report. | Language has been revised to change the due date of final reports and project outcomes reports to within 120 days following the end date the award.
16 | COGR | Public Access Plan AAG, Chapter VI.D.2 | We appreciate the significant efforts the NSF has made with the release of its Public Access plan and its recognition that managing investigator research data that result from Federal investments is a major challenge. We are grateful that the NSF's plan will be carried out in an incremental fashion allowing all stakeholder groups to collaborate on this important initiative. While the challenges our members will face to monitor and manage various agency plans will be rough, we do appreciate NSF's continued willingness to engage stakeholder groups and coordinate with other Federal agencies to identify infrastructure capabilities, resolve outstanding and shared concerns, and develop best practices and standards. | NSF thanks you for your comment.
17 | Association of American Publishers/Division of Professional and Scholarly Publishing | Public Access Plan | (1) Maintain commitment to proceed carefully, incrementally, and in close consultation with stakeholders to avoid unintended consequences (2) Ensure flexible approach to managing unique discipline communities to sustain the quality, integrity, and availability of high-quality peer-reviewed articles reporting on scientific research (3) Expand on opportunities to minimize administrative and researcher burdens and costs by using flexible approaches and public-private partnerships (4) Keep flexible data requirements that recognize the unique research practices of different fields, and encourage collaborative private sector solutions that minimize costs and burdens (5) Ensure adequate resources are available to support allowable costs for access to publications and data (6) Continue clear communication and engagement with scholarly community. | 1. NSF thanks you for your comment. 2. NSF thanks you for your comment. Comments have been requested on NSF's implementation of the Public Access requirement in the PAPPG, and not on the Plan itself. 3. NSF thanks you for your comment. Comments have been requested on NSF's implementation of the Public Access requirement in the PAPPG, and not on the Plan itself. 4. NSF thanks you for your comment. The NSF policy on data sharing and data management plans remains unchanged. 5. NSF thanks you for your comment. The NSF policy on data sharing and data management plans remains unchanged. 6. NSF thanks you for your comment.
18 | University of Wisconsin Madison | When to Submit Proposals and Format of the Proposal Chapter I.F and Chapter II.B | We are thankful for the consistency in the use of the 5 PM submitter's local time deadline and proposal formatting requirements. Regardless of the solicitation or the directorate issuing the solicitation, institutions will know what to expect and manage proposals accordingly. Such consistency reduces administrative burden on institutions and investigators, and we are grateful for that. | Thank you for your comment. No action required.
19 | University of Wisconsin Madison | Collaborators & Other Affiliations Chapter II.C.1e | We welcome the separation of the information on collaborators and other affiliations. Doing so makes it easier to comply with the biosketch page limit. This also allows us to be more thorough with collaborator and other affiliation information, especially for those researchers who are very active collaborators. | Thank you for your comment. No action required.
20 | University of Wisconsin Madison | Project Description Chapter II.C.2d(iii) | That the Project Description must not contain URLs and must be self‐contained helps create a level playing field in that all proposers must adhere to the same page limits. We appreciate this clarification and emphasis. | Thank you for your comment. No action required.
21 | University of Wisconsin Madison | Biographical Sketches Chapter II.C.2f(ii) | When biosketches for non‐senior personnel will be included, should they be appended to the PI or another senior/key person's biosketch? Does the instruction to upload or insert individual biosketches only apply to senior/key personnel? | Language has been revised to clarify that biosketches for all Other Personnel and Equipment Users must be uploaded in a single file as an other supplementary document.
22 | University of Wisconsin Madison | Current and Pending Support Chapter II.C.2h | (1) The proposed requirement is that Current and Pending Support include project support from internal institutional resources. We are seeking more clarity regarding this proposed requirement. A variety of internal institutional resources may be available to support an investigator. Internal institutional resources may be awarded for a specific research project. In such cases, researchers have competed for resources to support a project with a specific scope of work. Internal institutional resources may also be used to support multiple projects. Resources may be made available in a variety of ways, for example, start‐up packages or fellowships that can be used to support a faculty member's research program as a whole. Such funding may be used at the discretion of the researchers—to purchase supplies or equipment, or to help pay for personnel. Another possible use of internal institutional resources would be to support faculty salaries in addition to or in lieu of using a grant to pay for a faculty member's time and effort on a project. Given the variety of ways in which internal institutional resources may be used, would NSF be able to specify what types of situations warrant inclusion on a current and pending support document? (2) We are seeking confirmation that a PI or other senior personnel can list zero person months on a project. This may be appropriate, depending on the source of funding and the purpose of the project, e.g., an equipment grant. That certain awards would not require effort is supported by OMB Memorandum 01‐06, which states that “some types of research programs, such as programs for equipment and instrumentation, doctoral dissertations, and student augmentation, do not require committed faculty effort, paid or unpaid by the Federal Government . . .” (3) In lieu of requesting that the Current and Pending support information be provided at the time of proposal, NSF may wish to consider asking for it to be submitted only if an award is being contemplated, a JIT approach similar to NIH. This approach might decrease administrative burden for the senior personnel and the proposing organization as well as for NSF and its reviewers. | (1) COGR language incorporated from comment #12. (2) NSF recognizes that there may be confusion regarding a PI's or other senior personnel's responsibilities as it relates to reporting on projects where there is funding, but no time commitment. NSF plans to address this issue in a future issuance of the PAPPG. (3) Given the significance of this request, NSF will consider it in a future PAPPG.
23 | University of Wisconsin Madison | Dual Use Research of Concern Chapter II.D.14b | The language in the second paragraph of GPG Chapter II.D.14.b states that the proposing organization is responsible for identifying proposals that could “potentially be considered dual use research of concern” [emphasis added]. But, the final paragraph in this section indicates that the proposing organization must check the appropriate box if it “identifies the proposal as dual use research of concern” [emphasis added]. There are two issues with these paragraphs. First, the final paragraph implies (intentionally or not) that the proposing organization has already made a judgment whether or not the proposal is DURC, whereas the second paragraph does not. The two paragraphs convey different messages, but should convey the same message. Second, the likelihood that a proposal would be identified as DURC is small because the chance that it would be put before the Institutional Review Entity (IRE) prior to submission is small. Given the administrative burden associated with the review for DURC and proposal success rates, it is possible that an investigator may notify the Institutional Review Entity of the potential of DURC only after a proposal is awarded. If an IRE does not make a determination prior to proposal submission, then the proposing organization will not be able to identify a proposal as DURC or check the box on the Cover Sheet. We would prefer that the language in the final paragraph convey the same message as the language in the second paragraph. Another alternative, consistent with USG policy, is that NSF could simply be notified in the event that research has been reviewed and the IRE has made a determination whether or not the research meets the definition of DURC. Consistency with the USG policy may relieve administrative burden. |
24 | University of Wisconsin Madison | Dual Use Research of Concern AAG, Chapter VI.B.5 | The language in the AAG states that the PI or grantee organization should promptly notify the NSF Program Officer if “any of the research results could potentially be considered Dual Use Research of Concern” [emphasis added]. The United States Government (USG) DURC policy requires us to contact the USG funding agency only after the review of the research has occurred and a determination has been made. The language in the AAG suggests that NSF is imposing a requirement which may create an additional burden and is not part of the USG policy and procedures. | Language has been revised for compliance with government-wide requirements.
25 | University of Wisconsin Madison | Project Reporting and Grant Closeout AAG, Chapter II.D.2, 3.5 and Chapter III.E | We note that the lack of uniformity in deadlines between programmatic reports (90 day deadlines) and financial reporting (120 days) may cause confusion. We note that the lack of uniformity in deadlines across Federal agencies may cause confusion, as well. Our recommendation would be to harmonize these deadlines as much as possible. | Language has been revised to change the due date of final reports and project outcomes reports to within 120 days following the expiration of the award.
26 | University of Wisconsin Madison | Basic Considerations AAG Chapter V.A | This chapter opens with a statement that “expenditures . . . must conform with NSF policies where articulated in the grant terms and conditions . . .” We appreciate the addition of this language and the comment that “NSF policies that have a post award requirement are implemented in the grant terms and conditions.” | Thank you for your comment. No action required.
27 | University of Wisconsin Madison | Indirect Costs AAG, Chapter V.D.1b | In the second paragraph of this section, “de minimus” [sic] is misspelled. | Noted and corrected.
28 | University of Wisconsin Madison | Public Access Chapter VI.D.2c and VI.E | We understand the importance of the public access policy. However, the administrative burden to comply with this policy for two dozen separate agencies is daunting. The requirements across the agencies differ in terms of what should be submitted, how compliance will be monitored, and when the implementation will occur. Agencies also are using a variety of repositories, which will require institutions to learn new systems and procedures. All of these factors accumulate and signify larger workloads. Our institution, like others, has devoted significant time and resources to learning how to use the PubMed Central system. We understand how it functions and have in-house expertise to help faculty members with questions and submissions. We encourage NSF to consider allowing use of an established, familiar system such as PubMed Central. | NSF thanks you for your comment. NSF's public access initiative is part of a US government-wide activity initiated by the Office of Science and Technology Policy (OSTP) that is consistent with NSF's primary mission of promoting the progress of science and helping to ensure the nation's future prosperity. Comments have been requested on NSF's implementation of the Public Access requirement in the PAPPG, and not on the Plan itself.
29 | Wiley & Sons | Public Access | See backup documentation for additional details: (1) Embargoes and Petitions (2) Implementation and Repositories (3) Digital Data Sets. | NSF thanks you for your comment. Comments have been requested on NSF's implementation of the Public Access requirement in the PAPPG, and not on the Plan itself. NSF describes its approach to requesting a waiver to the 12-month embargo (or administrative interval) in Section 7.5.1 of the Public Access Plan (http://www.nsf.gov/publications/pub_summ.jsp?ods_key=nsf15052).
30 | CalTech | NSF Grantee Relationships Introduction. D | The discussion regarding Cooperative Agreements and the circumstances in which they should be used is very well written and quite helpful. There are many within the research community, on both the awarding and awardee sides, who have not had a clear understanding of the purposes of the Cooperative Agreement and the ways in which Cooperative Agreements differ from Grants and Contracts. This discussion will be very useful, particularly when working with the Audit community. | Thank you for your comment. No action required.
31 | CalTech | Preliminary Proposals Chapter I.D.2 | We are very supportive of your decision to require that preliminary proposals be submitted through the Authorized Organizational Representative (AOR). It is extremely helpful for the central research administration office to become aware of the interest of a PI in submitting a proposal for a specific NSF program at the earliest possible time. By requiring the preliminary proposal to go through the AOR, we can become aware of potential issues that must be addressed internally before the full proposal is due. | Thank you for your comment. No action required.
32 | CalTech | Voluntary Committed Cost Sharing Chapter II.C.2g(xi) | We are very well aware of NSF's position on Voluntary Committed Cost Sharing: It is not allowed unless it is an eligibility requirement that is clearly identified in the solicitation. Nevertheless, we also realize that there may be instances when investigators insist on the need to include voluntary committed cost sharing in their proposals. You have now provided a mechanism whereby that can be done, while staying within the overall NSF policy on voluntary committed cost sharing. The requirement not to include voluntary committed cost sharing in the budget or budget justification is very clear and will be easy to follow. Declaring that these resources will not be auditable by NSF will also make things easier for the post-award financial administration of the resulting grant. | Thank you for your comment. No action required.
33 | CalTech | Conference Proposals Chapter II.D.9 | The additional information on allowable costs associated with Conference Proposals is helpful because it removes the ambiguity surrounding potentially allowable or not allowable costs in connection with conference grants. Clarity on this topic, particularly with regard to food and beverage costs associated with intramural meetings, is appreciated. It will make It easier for everyone, investigators, departmental research administrators, and post-award financial staff to understand when such costs are not allowed. | Thank you for your comment. No action required.
34 | CalTech | Long Term Disengagement of the PIAAG, Chapter II.B.2a | NSF's adoption of the language in the Uniform Guidance on the long term disengagement of the PI will be of great assistance to investigators and research administrators, alike. When Federal agencies adopt uniform practices with regard to situations such as the absence or disengagement of Pies, it makes it easier for everyone involved to understand and follow the requirements. The notion of “disengagement is a reflection of the significant changes that have occurred as a result of modern communications technology. It is a reality that we live with and the use of “disengagement as a criterion for having to notify and involve the sponsor will reduce some of the administrative burdens associated with post-award administration. | Thank you for your comment. No action required.
35 | CalTech | Project Reporting AAG, Chapter II.D.3 | We would appreciate your consideration of making these reports due 120 days after the end of the award, rather than the 90 day time period in the draft PAPPG. This would bring the reporting and closeout requirements associated with the technical aspects of the grant in line with the reporting and closeout requirements associated with the financial aspects of the grant: 120 days after the end date of the award. | Language has been revised to change the due date of final reports and project outcomes reports to within 120 days following the expiration of the award.
36 | CalTech | Grant Closeout AAG, Chapter II.D.5 | NSF's adoption of the requirement for the closeout process to be completed within 120 days after the end of the project is greatly appreciated. Despite our best efforts, we have long had difficulty with the 90 day requirement for financial closeout, particularly when our award includes subawards. Giving us an added 30 days to complete this task should reduce the number of late closeouts and also reduce the instances when revised closeout activities are required. We hope that other Federal agencies will join NSF and NIH in recognizing the benefits of providing a more reasonable amount of time to complete the closeout process. | Thank you for your comment. No action required.
37 | CalTech | Informal Resolution of Grant Administrative Disputes AAG, Chapter VII.B | The revision of this section is appreciated. Although the use of this procedure is extremely rare, it is helpful if everyone can be clear on just how the process is supposed to work. This should save time and aggravation when it is necessary to resolve administrative disputes. | Thank you for your comment. No action required.
38 | Cold Spring Harbor Laboratory | Current and Pending Support Chapter II.C.2h | We encourage the NSF to seize the opportunity to lessen the administrative burden for investigators and institutions by not having them submit current and pending support at the time of proposal submission. Only those with favorable scientific review outcomes being considered for NSF funding should be asked to submit current and pending support information. This information will be more up to date if acquired later in the application process. In addition, we recommend that the requirement to have internal institutional resources identified, be eliminated. This will remove the unnecessary burden of reporting routine new faculty start-up packages that may include general equipment, facilities and/or voluntary time and effort not dedicated toward a specific project or endeavor. The trend for Federal research funding agencies seems to be toward determining how much unrestricted support investigators may have available so that this information can potentially be used to sway funding decisions and final award budgets. With stagnant and decreasing federal research funding, additional institutional support for investigators and postdoctoral fellows is essential in order to help their research continue and make ends meet. We strongly encourage the NSF to break with this trend that puts investigators and institutions in a vicious circle in which their efforts to help support and sustain research may negatively impact their ability to secure Federal research funding. We urge the NSF to modify the proposed PAPPG text accordingly to eliminate the requirement to report internal institutional resources. | (1) Given the significance of this request, NSF will consider it in a future PAPPG. (2) COGR language incorporated from comment #12.
39 | American Society of Civil Engineers | Public Access | ASCE is primarily concerned that the plan calls for a 12-month embargo, which would seriously impact the ability of ASCE to recover our cost. Compared to many areas of science and technology, civil engineering research moves at a more sedate rate. As such, civil engineering journals remain “fresh” for a longer period, selling over a longer period, and taking a correspondingly longer time for ASCE to re-coop our cost. ASCE believes that a 12-month embargo would impede ASCE's ability to continue to produce the high-quality journals that we currently do. The NSF plan includes conference proceedings, which many times are expanded and published as journal articles. Again, this leads to duplicate versions of results. Once again, thank you for the opportunity for ASCE to comment on the proposed Policies and Guidelines. ASCE, like other engineering and scientific societies, fulfills its role in the advancement of engineering by determining through the peer review process what is worthy of publication. While supporting open access, we must be careful not to lose the “value-added” by peer review is what sets apart top-flight research from mediocre work. | NSF thanks you for your comment. Comments have been requested on NSF's implementation of the Public Access requirement in the PAPPG, and not on the Plan itself. NSF describes its approach to requesting a waiver to the 12-month embargo (or administrative interval) in Section 7.5.1 of the Public Access Plan (http://www.nsf.gov/publications/pub_summ.jsp?ods_key=nsf15052).
40 | UC Riverside, Bourns College of Engineering | Preliminary Proposals Chapter I.D.2 | The change requiring submission of pre-proposals by the authorized representative adds some burden to the proposer, and thus partially defeats the purpose of reducing unnecessary effort. | It is vital that an institution be aware of commitments being made in a preliminary proposal. As such, AOR submission will be beneficial to the submitting organization.
41 | UC Riverside, Bourns College of Engineering | Format Chapter II.B. | Removing guidance information from the GPG is a very bad idea. Instead of streamlining the content, this would create an incomplete set of instructions. We need all of the guidance in one place for two reasons: (1) Not everyone involved with the proposal necessarily will be working in Fastlane, and (2) considerable work is done before upload, and finding unexpected instructions in Fastlane could create emergencies. Please don't let NSF become NIH, where the answer to every question is six links and four obsolete documents away. Put all of the instructions where we can find them. | NSF has added.
42 | UC Riverside, Bourns College of Engineering | Format Chapter II.B.1 | You should consider updating the formatting requirements. The fonts you identify were selected years (decades?) ago, and are optimized for print. All proposal submission and most proposal review now takes place on the screen, so you should consider allowing fonts that are optimized for the screen. These might include Calibri and Cambria. The standards regarding lines per inch and characters per line should be deleted; specifying font size and single-spacing should be sufficient. When a proposal is converted from, say, Word to PDF, it shrinks slightly. Moreover, since Fastlane distills Word documents and redistills PDFs, the proposer has no actual control over the final PDF version. This rule makes the proposer responsible for something that is ultimately out of his/her control. | Minor changes.
43 | UC Riverside, Bourns College of Engineering | Collaborators & Other Affiliations Chapter II.C.1e | This will be an excellent change if implemented properly. I would strongly recommend specifying an NSF-wide format for this information. Our experience has been that even within an individual directorate (CISE), the requirements for this list vary. Today, a list produced for one proposal might require significant reformatting for the next proposal. It would be nice to eliminate the need for this extra work. | Thank you for your comment. NSF will explore the viability of such a suggestion.
44 | UC Riverside, Bourns College of Engineering | Cover Sheet Chapter II.C.2a | Even though Fastlane is being phased out, three changes to the cover page would be nice: 1. Improve the Performance Site page programming. Often, each line must be entered and saved before the next line can be entered. Ideally, you could pre-populate this with information on the institution. 2. Make it possible to go to the remainder of the cover page before the first section is completed. 3. Add a legend indicating that the Beginning Investigator box is for BIO proposals only. | Thank you for your suggestion, however upgrades to FastLane are not feasible at this time. 3) Clarifying language has been added.
45 | UC Riverside, Bourns College of Engineering | Project Summary Chapter II.C.2b | This is a good place to point out sloppy language throughout the GPG. If you want the project description written in the third person, instruct us to do that. The words “must” and “should” do not mean the same thing, and here you say “should.” The word “should” appears 265 times in this document. How many of those times do you really mean “must” or “shall”? Statements like the following are of no value whatsoever: “Additional instructions for preparation of the Project Summary are available in FastLane.” What instructions? Where? If I don't track them down, will I be in danger of submitting a non-compliant proposal? | Thank you for your comments.
46 | UC Riverside, Bourns College of Engineering | Content Chapter II.C.2d(i) | What does “relation to longer-term goals of the PI's project” mean? What is the PI's project? It is not this proposed project, because then you would be asking how this proposal relates to this proposal. | Language has been revised.
47 | UC Riverside, Bourns College of Engineering | Project Description Chapter II.C.2d(ii) | The prohibition on URLs seems extreme, and it is a step in the wrong direction. As you point out, the reviewers are under no obligation to look at them, so no harm is done in including them. | Thank you for your comments.
48 | UC Riverside, Bourns College of Engineering | Results from Prior NSF Support Chapter II.C.2d(iii) | This should be eliminated from NSF proposals. The program officer (and, indeed, the public) already has access to all of this information via project reports. A more effective use of space, time, and energy would be to invite the proposer to describe how this proposed project relates to prior or concurrent work. | Project reports are not publicly available and therefore is essential information for use by the reviewer in assessing the proposal.
49 | UC Riverside, Bourns College of Engineering | References Cited Chapter II.C.2e | Since URLs are prohibited in the project description, it is likely that some URLs (to examples of outreach projects, for example) will end up in the References Cited list. Now we are at risk of disqualification since a URL does not contain all of the items each citation must have. | GPG Chapter II.C.2.d(iii)(d) already specifies that a complete bibliographic citation for each publication must be provided in either the References Cited section or the Results from Prior NSF Support section of the proposal, to avoid duplication.
50 | UC Riverside, Bourns College of Engineering | Biographical Sketches Chapter II.C.2f(ii) | We would strongly recommend that NSF provide a template for the entire biographical sketch. This will leave no question as to what can be included and what cannot. The instructions have a list of information that can't be included, but this is not exhaustive. What about honors and awards, for example? If a bio sketch contains everything required, in the order specified, plus a section on honors and awards, is it compliant or not? Today, the answer varies from program officer to program officer. As noted earlier, the elimination of the conflict list from the bio sketch is an excellent decision. The instructions on Other Personnel and the notation that biographical sketches cannot be uploaded as a group appear to be at odds. If someone is an Other Person rather than an Other Senior Person, how will it be possible to upload a biographical sketch? | (1) Upon review of this comment, NSF cannot validate the reviewer comment, as the instructions in that section do not contain a list of information not to include. (2) Language has been revised to clarify that biosketches for all personnel must be uploaded separately.
51 | UC Riverside, Bourns College of Engineering | Equipment Chapter II.C.2g(iii) | The term information technology systems should be defined, especially since NSF funds research on information technology systems. | 2 CFR 200 (Uniform Guidance) does not define information technology, and as such NSF is consistent with government-wide requirements.
52 | UC Riverside, Bourns College of Engineering | Special Information/International Conferences Chapter II.C.2j | This is a good change, but it belongs in the instructions for the Cover Page, not the instructions for the supplementary documents. | Instructions have been added to the Cover Sheet section.
53 | UC Riverside, Bourns College of Engineering | Collaborative Proposals Chapter II.D.5 | A definition of “within a reasonable timeframe” would be helpful. | Noted.
54 | UC Riverside, Bourns College of Engineering | Conference Grants Chapter II.D.9 | The language “may be appropriate or not appropriate” is wishy-washy. Why not just say allowable and unallowable? | Comment incorporated.
55 | University of Virginia | Participant Support Costs Chapter II.C.2g | Are we to interpret the definition this way, removing the “such as” so as to broaden the definition beyond the examples mentioned?: “Participant support costs means direct costs for items in connection with conferences, or training projects.” Previous guidance from NSF included the “such as” examples mentioned as well as “and other costs related to conferences and meetings” but the new guidance removes that “and other costs” part and appears to limit PSC to the items used as examples. I am asking because conferences can include other costs such as venue rental, poster supplies, etc. that aren't part of what is listed after “such as” and we are trying to determine what part of a conference should be considered PSC and which parts should not. Any idea how we should interpret the new definition? | (1) Yes. (2) NSF deliberately revised the definition of participant support for consistency with the Uniform Guidance. Significant clarity has been added in the conferences section to highlight the types of costs that may be appropriate for inclusion in a conference budget, of which participant support is one.
56 | Inside Public Access | Public Access | Statutory authority for the collection may also be an issue because there is no clear authority given by Congress for the US Public Access program. It was created by an Executive Branch memo. NSF needs to address this issue. (1) The strangeness of the NSF request. What is strange is that the collection of articles under Public Access has nothing to do with the proposal and award process, which is the subject of the PAPPG. (2) The burden of mandatory data sharing. (3) The issue of burden estimating. (4) Vague requirements create complexity. | NSF thanks you for your comment. NSF's public access initiative is part of a US government-wide activity initiated by the Office of Science and Technology Policy (OSTP) that is consistent with NSF's primary mission of promoting the progress of science and helping to ensure the nation's future prosperity. NSF has formally implemented its Public Access requirement in the PAPPG. Comments have been requested on NSF's implementation of the Public Access requirement in the PAPPG and not on the plan itself. The NSF policy on data sharing and data management plans remains unchanged.

Title of Collection: “National Science Foundation Proposal & Award Policies & Procedures Guide. “

OMB Approval Number: 3145-0058.

Type of Request: Intent to seek approval to extend with revision an information collection for three years.

Proposed Project: The National Science Foundation Act of 1950 (Public Law 81-507) sets forth NSF's mission and purpose:

“To promote the progress of science; to advance the national health, prosperity, and welfare; to secure the national defense. . . .”

The Act authorized and directed NSF to initiate and support:

• Basic scientific research and research fundamental to the engineering process;

• Programs to strengthen scientific and engineering research potential;

• Science and engineering education programs at all levels and in all the various fields of science and engineering;

• Programs that provide a source of information for policy formulation; and

• Other activities to promote these ends.

NSF's core purpose resonates clearly in everything it does: promoting achievement and progress in science and engineering and enhancing the potential for research and education to contribute to the Nation. While NSF's vision of the future and the mechanisms it uses to carry out its charges have evolved significantly over the last six decades, its ultimate mission remains the same.

Use of the Information: The regular submission of proposals to the Foundation is part of the collection of information and is used to help NSF fulfill this responsibility by initiating and supporting merit-selected research and education projects in all the scientific and engineering disciplines. NSF receives more than 50,000 proposals annually for new projects, and makes approximately 11,000 new awards.

Support is made primarily through grants, contracts, and other agreements awarded to approximately 2,000 colleges, universities, academic consortia, nonprofit institutions, and small businesses. The awards are based mainly on merit evaluations of proposals submitted to the Foundation.

The Foundation has a continuing commitment to monitor the operations of its information collection to identify and address excessive reporting burdens as well as to identify any real or apparent inequities based on gender, race, ethnicity, or disability of the proposed principal investigator(s)/project director(s) or the co-principal investigator(s)/co-project director(s).

Burden on the Public

It has been estimated that the public expends an average of approximately 120 burden hours for each proposal submitted. Since the Foundation expects to receive approximately 51,700 proposals in FY 2016, an estimated 6,204,000 burden hours will be placed on the public.

The Foundation has based its reporting burden on the review of approximately 51,700 new proposals expected during FY 2016. It has been estimated that anywhere from one hour to 20 hours may be required to review a proposal. We have estimated that approximately 5 hours are required to review an average proposal. Each proposal receives an average of 3 reviews, resulting in approximately 775,500 burden hours each year.

The information collected on the reviewer background questionnaire (NSF 428A) is used by managers to maintain an automated database of reviewers for the many disciplines represented by the proposals submitted to the Foundation. Information collected on gender, race, and ethnicity is used in meeting NSF needs for data to permit response to Congressional and other queries into equity issues. These data also are used in the design, implementation, and monitoring of NSF efforts to increase the participation of various groups in science, engineering, and education. The estimated burden for the Reviewer Background Information (NSF 428A) is estimated at 5 minutes per respondent with up to 10,000 potential new reviewers for a total of 833 hours.

The aggregate number of burden hours is estimated to be 6,980,333. The actual burden on respondents has not changed.

Dated: August 13, 2015.
Suzanne H. Plimpton,
Reports Clearance Officer, National Science Foundation.

[FR Doc. 2015-20365 Filed 8-18-15; 8:45 am]

BILLING CODE 7555-01-P